FEDERAL COMMUNICATIONS COMMISSION

[OMB 3060-0938; FR ID 291101]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection burden on small business concerns with fewer than 25 employees.

The FCC may not conduct or sponsor a collection of information unless it displays a currently valid OMB control number. No person shall be subject to any penalty for failing to comply with a collection of information subject to the PRA that does not display a valid OMB control number.

DATES: Written PRA comments should be submitted on or before June 30, 2025. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-0938.

Title: Form 2100, Schedule 319—Low Power FM Station License Application.

Form Number: Form 2100, Schedule 319.

Type of Review: Extension of a currently approved collection.

Respondents: Not-for-profit institutions, State, local or Tribal Government.

Number of Respondents and Responses: 200 respondents and 200 responses.

Estimated Time per Response: 1 hour.

Frequency of Response: On occasion reporting requirement.

Total Annual Burden: 200 hours.

Total Annual Cost: $27,500.

Obligation to Respond: Required to obtain or retain benefits. The statutory authority for this collection of information is contained in Sections 154(i), 303 and 308 of the Communications Act of 1934, as amended.

Needs and Uses: FCC Form 2100, Schedule 319 (LPFM License Application) is used to apply for a new or modified low power FM (LPFM) broadcast station license in the current Media Bureau database system, the “Licensing Management System.” Specifically, it may be used: (1) to cover an authorized construction permit; (2) to replace a nondirectional antenna with a different type of nondirectional antenna with the same number of bays; (3) to replace the transmission line, which may require a change in the transmitter power output to maintain the licensed effective radiated power; (4) to change the hours of operation of a LPFM station authorized to operate pursuant to a time-share agreement; (5) to amend a pending license application; and (6) as otherwise ordered by staff.

Federal Communications Commission.
Katura Jackson,
Federal Register Liaison Officer.

[FR Doc. 2025-07308 Filed 4-28-25; 8:45 am]

BILLING CODE 6712-01-P